DEPARTMENT OF HEALTH AND HUMAN SERVICES

Centers for Disease Control and Prevention

[CDC-2016-0090; Docket Number NIOSH 288-A]

A Performance Test Protocol for Closed System Transfer Devices Used During Pharmacy Compounding and Administration of Hazardous Drugs; Extension of Comment Period

AGENCY: National Institute for Occupational Safety and Health (NIOSH) of the Centers for Disease Control and Prevention (CDC), Department of Health and Human Services (HHS).

ACTION: Notice and extension of comment period.

SUMMARY: On September 15, 2016 the Director of the National Institute for Occupational Safety and Health (NIOSH) of the Centers for Disease Control and Prevention (CDC), published a notice in the Federal Register [81 FR 63482] announcing a public meeting and request for public comment on a draft testing protocol. Written comments were to be received by December 7, 2016. In response to a request from interested parties, NIOSH has extended the comment period until June 7, 2017. The longer timeframe will allow companies to acquire the proposed challenge agents and test their CSTDs with the proposed universal CSTD performance test protocol.

DATES: NIOSH is extending the comment period on the document published September 15, 2016 [81 FR 63482]. Electronic or written comments must be received by June 7, 2017.

FOR FURTHER INFORMATION CONTACT: Deborah V. Hirst, NIOSH, Alice Hamilton Laboratories, 1090 Tusculum Avenue, MS-R-5, Cincinnati, Ohio 45226, telephone (513) 841-4141 (not a toll free number), Email: DHirst@cdc.gov.

ADDRESSES: You may submit comments, identified by CDC-2016-0090 and Docket Number NIOSH 288-A, by either of the following two methods:

• Federal eRulemaking Portal: http://www.regulations.gov. Follow the instructions for submitting comments.

• Mail: National Institute for Occupational Safety and Health, NIOSH Docket Office, 1090 Tusculum Avenue, MS C-34, Cincinnati, Ohio 45226-1998.

Dated: December 5, 2016.
Frank Hearl,
Chief of Staff, National Institute for Occupational Safety and Health, Centers for Disease Control and Prevention.

[FR Doc. 2016-29411 Filed 12-7-16; 8:45 am]

BILLING CODE 4163-19-P